DEPARTMENT OF VETERANS AFFAIRS

[OMB Control No. 2900-NEW]

Agency Information Collection Activities Under OMB Review

AGENCY: Veterans Health Administration, Department of Veterans Affairs.

ACTION: Notice.

SUMMARY: In compliance with the Paperwork Reduction Act (PRA) of 1995 (44 U.S.C., 3501 et seq.), this notice announces that the Veterans Health Administration (VHA), Department of Veterans Affairs, has submitted the collection of information abstracted below to the Office of Management and Budget (OMB) for review and comment. The PRA submission describes the nature of the information collection and its expected cost and burden; it includes the actual data collection instrument.

DATES: Comments must be submitted on or before February 12, 2001.

FOR FURTHER INFORMATION OR A COPY OF THE SUBMISSION CONTACT: Denise McLamb, Information Management Service (045A4), Department of Veterans Affairs, 810 Vermont Avenue, NW., Washington, DC 20420, (202) 273-8030 or FAX (202) 273-5981. Please refer to “OMB Control No. 2900-NEW.”

SUPPLEMENTARY INFORMATION: Titles: a. Application for Furnishing Nursing Home Care to Beneficiaries of Veterans Affairs, VA Form 10-1170.

b. Residential Care Home Program—Sponsor Application, VA Form 10-2407.

OMB Control Number: 2900-NEW.

Type of Review: New Collection.

Abstract: VA medical centers and VA Central Office use the information on the forms to determine non-Federal nursing home or the residential care home qualifications for providing care to veterans.

An agency may not conduct or sponsor, and a person is not required to respond to a collection of information unless it displays a currently valid OMB control number. The Federal Register Notice with a 60-day comment period soliciting comments on this collection of information was published on March 9, 2000, at pages 12626 and 12627.

Affected Public: Not-for-profit institutions, Individuals or households, Business or other for-profit.

Estimated Annual Burden:

a. VA Form 10-1170—167 hours.

b. VA Form 10-2407—83 hours.

Estimated Average Burden Per Respondent:

a. VA Form 10-1170—20 minutes.

b. VA Form 10-2407—5 minutes.

Frequency of Response: One time.

Estimated Number of Respondents:

a. VA Form 10-1170—500.

b. VA Form 10-2407—1,000.

Send comments and recommendations concerning any aspect of the information collection to VA's OMB Desk Officer, OMB Human Resources and Housing Branch, New Executive Office Building, Room 10235, Washington, DC 20503 (202) 395-7316. Please refer to “OMB Control No. 2900-NEW” in any correspondence.

Dated: November 28, 2000.
By direction of the Secretary.
Barbara H. Epps,
Management Analyst, Information Management Service.

[FR Doc. 01-820 Filed 1-10-01; 8:45 am]

BILLING CODE 8320-01-P